DEPARTMENT OF LABOR

Mine Safety and Health Administration

Affirmative Decisions on Petitions for Modification Granted in Whole or in Part

AGENCY: Mine Safety and Health Administration (MSHA), Labor.

ACTION: Notice.

SUMMARY: Section 101(c) of the Federal Mine Safety and Health Act of 1977 and 30 CFR part 44 govern the application, processing, and disposition of petitions for modification. This Federal Register Notice notifies the public that MSHA has investigated and issued a final decision on certain mine operator petitions to modify a safety standard.

ADDRESSES: Copies of the final decisions are posted on MSHA's Web site at http://www.msha.gov/indexes/petition.htm. The public may inspect the petitions and final decisions during normal business hours in MSHA's Office of Standards, Regulations, and Variances, 1100 Wilson Boulevard, Room 2349, Arlington, Virginia 22209. All visitors must first stop at the receptionist desk on the 21st Floor to sign-in.

FOR FURTHER INFORMATION CONTACT: Roslyn B. Fontaine, Office of Standards, Regulations, and Variances at 202-693-9475 (Voice), fontaine.roslyn@dol.gov (Email), or 202-693-9441 (Telefax), or Barbara Barron at 202-693-9447 (Voice), barron.barbara@dol.gov (Email), or 202-693-9441 (Telefax). [These are not toll-free numbers].

SUPPLEMENTARY INFORMATION:

I. Introduction

Under section 101 of the Federal Mine Safety and Health Act of 1977, a mine operator may petition and the Secretary of Labor (Secretary) may modify the application of a mandatory safety standard to that mine if the Secretary determines that: (1) An alternative method exists that will guarantee no less protection for the miners affected than that provided by the standard; or (2) that the application of the standard will result in a diminution of safety to the affected miners.

MSHA bases the final decision on the petitioner's statements, any comments and information submitted by interested persons, and a field investigation of the conditions at the mine. In some instances, MSHA may approve a petition for modification on the condition that the mine operator complies with other requirements noted in the decision.

II. Granted Petitions for Modification

On the basis of the findings of MSHA's investigation, and as designee of the Secretary, MSHA has granted or partially granted the following petitions for modification:

• Docket Number: M-2014-026-C.

FR Notice: 79 FR 48256 (8/15/2014).

Petitioner: Covol Fuels No. 3, LLC, 10156 US Hwy 25 E, Pineville, Kentucky 40977.

Mine: Crockett, MSHA I.D. No. 15-12682, located in Bell County, Kentucky; Coarse Coal Refuse Fill #5, Site I.D. No. KY07-12682-05.

Regulation Affected: 30 CFR 77.214(a) (Refuse piles; general).

• Docket Number: M-2014-031-C.

FR Notice: 79 FR 64623 (10/30/2014).

Petitioner: Sunrise Coal LLC, 12661 Agricare Road, Oaktown, Indiana 47561.

Mine: Oaktown Fuels Mine No. 1, MSHA I.D. No. 12-02394, located in Knox County, Indiana.

Regulation Affected: 30 CFR 75.1700 (Oil and gas wells).

• Docket Number: M-2014-032-C.

FR Notice: 79 FR 64623 (10/30/2014).

Petitioner: Sunrise Coal LLC, 12661 Agricare Road, Oaktown, Indiana 47561.

Mine: Oaktown Fuels Mine No. 2, MSHA I.D. No. 12-02418, located in Knox County, Indiana.

Regulation Affected: 30 CFR 75.1700 (Oil and gas wells).

Dated: April 27, 2015.
Sheila McConnell,
Acting Director, Office of Standards, Regulations, and Variances.

[FR Doc. 2015-10092 Filed 4-29-15; 8:45 am]

BILLING CODE 4510-43-P